SECURITIES AND EXCHANGE COMMISSION

[Release No. IC-25788]

Notice of Applications for Deregistration Under Section 8(f) of the Investment Company Act of 1940

October 25, 2002.

The following is a notice of applications for deregistration under section 8(f) of the Investment Company Act of 1940 for the month of October 2002. A copy of each application may be obtained for a fee at the SEC's Public Reference Branch, 450 Fifth St., NW, Washington, DC 20549-0102 (tel. (202) 942-8090). An order granting each application will be issued unless the SEC orders a hearing. Interested persons may request a hearing on any application by writing to the SEC's Secretary at the address below and serving the relevant applicant with a copy of the request, personally or by mail. Hearing requests should be received by the SEC by 5:30 p.m. on November 19, 2002, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW, Washington, DC 20549-0609. For Further Information Contact: Diane L. Titus at (202) 942-0564, SEC, Division of Investment Management, Office of Investment Company Regulation, 450 Fifth Street, NW., Washington, DC 20549-0506.

Lepercq-Istel Trust [File No. 811-631]

Summary: Applicant seeks an order declaring that it has ceased to be an investment company. On July 9, 2002, applicant transferred its assets to The Tocqueville Trust, based on net asset value. Expenses of $37,735 incurred in connection with the reorganization were paid by Tocqueville Asset Management L.P., investment adviser to the acquiring fund.

Filing Dates: The application was filed on August 20, 2002, and amended on October 9, 2002.

Applicant's Address: 1675 Broadway, New York, NY 10019.

Pioneer Global Financials Fund [File No. 811-10107]

Summary: Applicant seeks an order declaring that it has ceased to be an investment company. On August 23, 2002, applicant made a liquidating distribution to its shareholders based on net asset value. Expenses of $19,050 incurred in connection with the liquidation were paid by Pioneer Investment Management, Inc., applicant's investment adviser.

Filing Date: The application was filed on October 3, 2002.

Applicant's Address: 60 State St., Boston, MA 02109.

Tax Free Money Portfolio [File No. 811-6074]

Summary: Applicant, a master fund in a master-feeder structure, seeks an order declaring that it has ceased to be an investment company. On April 27, 2001, applicant distributed its portfolio securities in-kind to the Tax Free Money Fund, applicant's single corresponding feeder fund, thereby dissolving the master-feeder structure. Expenses of $2,000 incurred in connection with the conversion were paid by the Tax Free Money Fund.

Filing Date: The application was filed on October 3, 2002.

Applicant's Address: One South St., Baltimore, MD 21202.

Pioneer Gold Shares [File No. 811-8661]

Pioneer Global Telecoms Fund [File No. 811-10105]

Pioneer Global Health Care Fund [File No. 811-10109]

Summary: Each applicant seeks an order declaring that it has ceased to be an investment company. On October 29, 1999, August 23, 2002, and August 23, 2002, respectively, each applicant made a liquidating distribution to its shareholders, based on net asset value. Expenses of $22,100, $19,050 and $19,050, respectively, incurred in connection with the liquidations were paid by Pioneer Investment Management, Inc., investment adviser to each applicant.

Filing Date: The applications were filed on October 4, 2002.

Applicants' Address: 60 State St., Boston, MA 02109.

Mosaic Focus Fund Trust [File No. 811-7473]

Summary: Applicant seeks an order declaring that it has ceased to be an investment company. On July 1, 2002, applicant transferred its assets to The Investors Fund series of Mosaic Equity Trust, based on net asset value. Expenses of $8,000 incurred in connection with the reorganization were paid by Madison Mosaic, LLC, applicant's investment adviser.

Filing Date: The application was filed on October 1, 2002.

Applicant's Address: 550 Science Dr., Madison, WI 53711.

GAM Avalon Multi-Technology, LLC [File No. 811-10243]

Summary: Applicant, a closed-end investment company, seeks an order declaring that it has ceased to be an investment company. On July 24, 2002, applicant made a final liquidating distribution to its shareholders, based on net asset value. Applicant incurred no expenses in connection with the liquidation.

Filing Date: The application was filed on September 20, 2002.

Applicant's Address: c/o Global Asset Management (USA) Inc., 135 East 57th St., New York, NY 10022.

Merrill Lynch Municipal Strategy Fund, Inc. [File No. 811-7203]

Summary: Applicant, a closed-end investment company, seeks an order declaring that it has ceased to be an investment company. On November 19, 2001, applicant transferred its assets to MuniYield Fund, Inc., based on net asset value. Senior security holders were issued a liquidation preference of $25,000 per share, and the remaining net assets were distributed to the holders of common stock on a pro rata basis. Expenses of $141,755 incurred in connection with the reorganization were paid by applicant and the acquiring fund.

Filing Date: The application was filed on September 25, 2002.

Applicant's Address: Merrill Lynch Investment Managers, L.P., 800 Scudders Mill Rd., Plainsboro, NJ 08536.

Putnam Balanced Retirement Fund [File No. 811-4242]

Summary: Applicant seeks an order declaring that it has ceased to be an investment company. On September 23, 2002, applicant transferred its assets to The George Putnam Fund of Boston, based on net asset value. Expenses of approximately $432,107 incurred in connection with the reorganization were paid by applicant and the acquiring fund.

Filing Date: The application was filed on September 27, 2002.

Applicant's Address: One Post Office Sq., Boston, MA 02109.

Putnam Global Equity Fund [File No. 811-7615]

Summary: Applicant seeks an order declaring that it has ceased to be an investment company. On September 23, 2002, applicant transferred its assets to Putnam Global Growth Fund, based on net asset value. Expenses of approximately $570,523 incurred in connection with the reorganization were paid by applicant, the acquiring fund and Putnam Investment Management, LLC, applicant's investment adviser.

Filing Date: The application was filed on September 27, 2002.

Applicant's Address: One Post Office Sq., Boston, MA 02109.

Credit Suisse International Small Company Fund, Inc. [File No. 811-8737]

Summary: Applicant seeks an order declaring that it has ceased to be an investment company. On May 10, 2002, applicant transferred its assets to Credit Suisse International Focus Fund, Inc., based on net asset value. Expenses of approximately $115,024 incurred in connection with the reorganization were paid by Credit Suisse Asset Management, LLC, applicant's investment adviser, or its affiliates.

Filing Date: The application was filed on September 27, 2002.

Applicant's Address: 466 Lexington Ave., New York, NY 10017.

Credit Suisse International Equity Fund, Inc. [File No. 811-5765]

Summary: Applicant seeks an order declaring that it has ceased to be an investment company. On April 26, 2002, applicant transferred its assets to Credit Suisse International Focus Fund, Inc., based on net asset value. Expenses of approximately $278,728 incurred in connection with the reorganization were paid by Credit Suisse Asset Management, LLC, applicant's investment adviser, or its affiliates.

Filing Date: The application was filed on September 27, 2002.

Applicant's Address: 466 Lexington Ave., New York, NY 10017.

Credit Suisse Balanced Fund, Inc. [File No. 811-7517]

Summary: Applicant seeks an order declaring that it has ceased to be an investment company. On April 12, 2002, applicant transferred its assets to Credit Suisse Large Cap Value Fund, a series of Credit Suisse Capital Funds, based on net asset value. Expenses of approximately $139,749 incurred in connection with the reorganization were paid by Credit Suisse Asset Management, LLC, applicant's investment adviser, or its affiliates.

Filing Date: The application was filed on September 27, 2002.

Applicant's Address: 466 Lexington Ave., New York, NY 10017.

Credit Suisse Japan Small Cap Fund, Inc. [File No. 811-8686]

Summary: Applicant seeks an order declaring that it has ceased to be an investment company. On April 26, 2002, applicant transferred its assets to Credit Suisse Japan Growth Fund, Inc., based on net asset value. Expenses of approximately $322,167 incurred in connection with the reorganization were paid by Credit Suisse Asset Management, LLC, applicant's investment adviser, or its affiliates.

Filing Date: The application was filed on September 27, 2002.

Applicant's Address: 466 Lexington Ave., New York, NY 10017.

NY Tax Free Money Portfolio [File No. 811-6075]

Summary: Applicant, a master fund in a master-feeder structure, seeks an order declaring that it has ceased to be an investment company. On April 27, 2001, applicant distributed its portfolio securities in-kind to NY Tax Free Money Fund, applicant's single corresponding feeder fund, thereby dissolving the master-feeder structure. Expenses of $2,000 incurred in connection with the conversion were paid by NY Tax Free Money Fund.

Filing Dates: The application was filed on September 3, 2002, and amended on October 3, 2002.

Applicant's Address: One South Street, Baltimore, MD 21202.

Capital Appreciation Portfolio [File No. 811-7408]

Summary: Applicant, a master fund in a master-feeder structure, seeks an order declaring that it has ceased to be an investment company. On March 28, 2002, applicant distributed its portfolio securities in-kind to Mid Cap Fund, applicant's single corresponding feeder fund, thereby dissolving the master-feeder structure. Expenses of $2,000 incurred in connection with the conversion were paid by Mid Cap Fund.

Filing Dates: The application was filed on September 3, 2002, and amended on October 3, 2002.

Applicant's Address: One South Street, Baltimore, MD 21202.

MuniHoldings Michigan Insured Fund II, Inc. [File No. 811-9483]

Summary: Applicant, a closed-end investment company, seeks an order declaring that it has ceased to be an investment company. On June 14, 2002, applicant transferred its assets to MuniYield Michigan Insured Fund II, Inc. (formerly MuniYield Michigan Fund, Inc.) based on net asset value. Applicant's shareholders who held auction market preferred stock (“AMPS”) received the equivalent number of newly issued shares of an existing series of AMPS of the acquiring fund. Expenses of $487,030 incurred in connection with the reorganization were paid by the acquiring fund.

Filing Dates: The application was filed on August 7, 2002, and amended on October 4, 2002.

Applicant's Address: Merrill Lynch Investment Managers, L.P., 800 Scudders Mill Rd., Plainsboro, NJ 08536.

Merrill Lynch KECALP L.P. 1991 [File No. 811-6287]

Summary: Applicant, a closed-end investment company, seeks an order declaring that it has ceased to be an investment company. By July 17, 2002, all assets of applicant had been distributed to the partners of applicant, based on net asset value. Applicant has retained $35,400 in cash to pay the expenses incurred in connection with the liquidation.

Filing Dates: The application was filed on August 16, 2002, and amended on October 10, 2002, and October 22, 2002.

Applicant's Address: 4 World Financial Center, 23rd Floor, New York, NY 10080.

Transamerica Variable Insurance Fund, Inc. [File No. 811-09126]

Summary: Applicant seeks an order declaring that it has ceased to be an investment company. On April 30, 2002, pursuant to an agreement approved by the Applicant's shareholders, Applicant transferred all of the assets of each of its three portfolios to a corresponding successor portfolio of AEGON/Transamerica Series Fund (the “Trust”), based on net asset value. Expenses of approximately $105,632 were incurred in connection with the merger and were paid by AEGON/Transamerica Fund Advisers, the investment adviser of the Trust.

Filing Date: The application was filed on August 30, 2002.

Applicant's Address: 1150 South Olive Street, Los Angeles, California 90015-2211.

Endeavor Series Trust [File No. 811-5780]

Summary: Applicant seeks an order declaring that it has ceased to be an investment company. On April 30, 2002, pursuant to an agreement approved by the Applicant's shareholders, Applicant transferred all of the assets of each of its fourteen portfolios to a corresponding successor portfolio of AEGON/Transamerica Fund (the “Trust”), based on net asset value. Expenses of approximately $162,593 were incurred in connection with the merger and were paid by AEGON Advisers, the investment adviser of the Trust.

Filing Date: The application was filed on July 17, 2002.

Applicant's Address: 4333 Edgewood Road NE, Cedar Rapids, IA 52499-4520.

For the Commission, by the Division of Investment Management, pursuant to delegated authority.
Margaret H. McFarland,
Deputy Secretary.

[FR Doc. 02-27664 Filed 10-30-02; 8:45 am]

BILLING CODE 8010-01-P